DEPARTMENT OF HOMELAND SECURITY

Coast Guard

[Docket No. USCG-2007-0027]

Towing Safety Advisory Committee; Charter Renewal

AGENCY: Coast Guard, DHS.

ACTION: Notice of charter renewal.

SUMMARY: Under the Federal Advisory Committee Act, 5 U.S.C. App. (Pub. L. 92-463), the Secretary of Homeland Security has renewed the charter for the Towing Safety Advisory Committee (TSAC) for a 2-year period, from August 30, 2007 until August 30, 2009. This Committee advises the Coast Guard on matters related to shallow-draft inland and coastal waterway navigation and towing safety.

ADDRESSES: A copy of this notice and the Committee charter is available in our online docket, USCG-2007-0027, at http://www.regulations.gov. You may request a copy of the charter by writing Mr. Gerald Miante; Ass't. Executive Director of TSAC; U.S. Coast Guard Headquarters; CG-5521, Room 1210; 2100 Second St., SW., Washington, DC 20593.

FOR FURTHER INFORMATION CONTACT: Mr. Miante at 202-372-1401 or via e-mail at gerald.p.miante@uscg.mil.

Dated: October 18, 2007.
Howard L. Hime,
Acting Director of Commercial Regulations and Standards.

[FR Doc. E7-20979 Filed 10-24-07; 8:45 am]

BILLING CODE 4910-15-P